DEPARTMENT OF ENERGY

Federal Energy Regulatory Commission

Combined Notice of Filings #1

Take notice that the Commission received the following exempt wholesale generator filings:

Docket Numbers: EG21-212-000.

Applicants: Quinebaug Solar, LLC.

Description: Notice of Self-Certification of Exempt Wholesale Generator Status of Quinebaug Solar, LLC.

Filed Date: 8/9/21.

Accession Number: 20210809-5201.

Comment Date: 5 pm ET 8/30/21.

Docket Numbers: EG21-213-000.

Applicants: Borderlands Wind, LLC.

Description: Notice of Self-Certification of Exempt Wholesale Generator Status of Borderlands Wind, LLC.

Filed Date: 8/9/21.

Accession Number: 20210809-5202.

Comment Date: 5 pm ET 8/30/21.

Docket Numbers: EG21-214-000.

Applicants: Hecate Energy Johanna Facility LLC.

Description: Notice of Self-Certification of Exempt Wholesale Generator Status of Hecate Energy Johanna Facility LLC.

Filed Date: 8/10/21.

Accession Number: 20210810-5094.

Comment Date: 5 pm ET 8/31/21.

Docket Numbers: EG21-215-000.

Applicants: SR Perry, LLC.

Description: Notice of Self-Certification of Exempt Wholesale Generator Status of SR Perry, LLC.

Filed Date: 8/10/21.

Accession Number: 20210810-5098.

Comment Date: 5 pm ET 8/31/21.

Take notice that the Commission received the following electric rate filings:

Docket Numbers: ER10-3193-014; ER10-3195-008; ER17-580-003; ER19-2707-003.

Applicants: Poseidon Wind, LLC, Axium Modesto Solar, LLC, MATEP Limited Partnership, Brooklyn Navy Yard Cogeneration Partners, L.P.

Description: Notice of Change in Status of Brooklyn Navy Yard Cogeneration Partners, L.P., et al.

Filed Date: 8/6/21.

Accession Number: 20210806-5255.

Comment Date: 5 pm ET 8/27/21.

Docket Numbers: ER21-2344-001.

Applicants: PJM Interconnection, L.L.C.

Description: Tariff Amendment: Errata to Filing: Original ISA, SA No. 6092; Queue No. AD1-061/AF2-184 to be effective 6/2/2021.

Filed Date: 8/9/21.

Accession Number: 20210809-5157.

Comment Date: 5 pm ET 8/30/21.

Docket Numbers: ER21-2441-000.

Applicants: In Commodities US LLC.

Description: Supplement to July 16, 2021 In Commodities US LLC tariff filing.

Filed Date: 8/9/21.

Accession Number: 20210809-5173.

Comment Date: 5 pm ET 8/30/21.

Docket Numbers: ER21-2626-000.

Applicants: Midcontinent Independent System Operator, Inc.

Description: § 205(d) Rate Filing: 2021-08-09_SA 2110 GRE-GRE 1st Rev GIA (G876 G877) to be effective 8/5/2021.

Filed Date: 8/9/21.

Accession Number: 20210809-5174.

Comment Date: 5 pm ET 8/30/21.

Docket Numbers: ER21-2627-000.

Applicants: Vermont Transco LLC.

Description: Request for Authorization of Deferred Cost Recovery of Vermont Transco, LLC.

Filed Date: 8/5/21.

Accession Number: 20210805-5159.

Comment Date: 5 pm ET 8/26/21.

Docket Numbers: ER21-2628-000.

Applicants: PacifiCorp.

Description: § 205(d) Rate Filing: NTUA Const Agmt Red Mesa Affected System Aug 2021 to be effective 8/10/2021.

Filed Date: 8/9/21.

Accession Number: 20210809-5184.

Comment Date: 5 pm ET 8/30/21.

Docket Numbers: ER21-2629-000.

Applicants: Maven Energy, LLC.

Description: Baseline eTariff Filing: Application For Market Based Rate Authority to be effective 8/15/2021.

Filed Date: 8/10/21.

Accession Number: 20210810-5001.

Comment Date: 5 pm ET 8/31/21.

Docket Numbers: ER21-2630-000.

Applicants: AEP Oklahoma Transmission Company, Inc.

Description: § 205(d) Rate Filing: AEPOTC-Seven Cowboy Wind Preliminary Development Agreement to be effective 8/3/2021.

Filed Date: 8/10/21.

Accession Number: 20210810-5011.

Comment Date: 5 pm ET 8/31/21.

Docket Numbers: ER21-2631-000.

Applicants: Wisconsin Power and Light Company.

Description: § 205(d) Rate Filing: WPL Letter of Concurrence to be effective 10/4/2021.

Filed Date: 8/10/21.

Accession Number: 20210810-5028.

Comment Date: 5 pm ET 8/31/21.

Docket Numbers: ER21-2633-000.

Applicants: Tri-State Generation and Transmission Association, Inc.

Description: § 205(d) Rate Filing: Amendment to Service Agreement No. 609 to be effective 7/27/2021.

Filed Date: 8/10/21.

Accession Number: 20210810-5058.

Comment Date: 5 pm ET 8/31/21.

Docket Numbers: ER21-2634-000.

Applicants: Solar Star Lost Hills, LLC.

Description: Baseline eTariff Filing: Market-Based Rate Application to be effective 8/11/2021.

Filed Date: 8/10/21.

Accession Number: 20210810-5081.

Comment Date: 5 pm ET 8/31/21.

Docket Numbers: ER21-2635-000.

Applicants: Hecate Energy Johanna Facility LLC.

Description: Baseline eTariff Filing: Application for Market-Based Rate Authority to be effective 8/27/2021.

Filed Date: 8/10/21.

Accession Number: 20210810-5084.

Comment Date: 5 pm ET 8/31/21.

Docket Numbers: ER21-2636-000.

Applicants: Puget Sound Energy, Inc.

Description: Tariff Amendment: Cancellation of Powerex Agreements to be effective 10/11/2021.

Filed Date: 8/10/21.

Accession Number: 20210810-5099.

Comment Date: 5 pm ET 8/31/21.

Docket Numbers: ER21-2637-000.

Applicants: Puget Sound Energy, Inc.

Description: § 205(d) Rate Filing: Powerex Transmission Service Agreement to be effective 9/1/2019.

Filed Date: 8/10/21.

Accession Number: 20210810-5100.

Comment Date: 5 pm ET 8/31/21.

Docket Numbers: ER21-2638-000.

Applicants: SR Perry, LLC.

Description: Baseline eTariff Filing: Market-Based Rate Application to be effective 10/10/2021.

Filed Date: 8/10/21.

Accession Number: 20210810-5102.

Comment Date: 5 pm ET 8/31/21.

Docket Numbers: ER21-2639-000.

Applicants: New York Independent System Operator, Inc., Niagara Mohawk Power Corporation.

Description: § 205(d) Rate Filing: New York Independent System Operator, Inc. submits tariff filing per 35.13(a)(2)(iii: 205: Joint NYISO NMPC Amended Restated SGIA 2591—SunEast Watkins Road to be effective 7/30/2021.

Filed Date: 8/10/21.

Accession Number: 20210810-5104.

Comment Date: 5 pm ET 8/31/21.

Docket Numbers: ER21-2640-000.

Applicants: PJM Interconnection, L.L.C.

Description: § 205(d) Rate Filing: Revisions to OA re: Termination of Ozark International Inc. and Krayn Wind, LLC to be effective 10/11/2021.

Filed Date: 8/10/21.

Accession Number: 20210810-5109.

Comment Date: 5 pm ET 8/31/21.

Docket Numbers: ER21-2641-000.

Applicants: Quinebaug Solar, LLC.

Description: Baseline eTariff Filing: Quinebaug Solar, LLC Application for Market-Based Rate Authorization to be effective 8/11/2021.

Filed Date: 8/10/21.

Accession Number: 20210810-5110.

Comment Date: 5 pm ET 8/31/21.

Docket Numbers: ER21-2642-000.

Applicants: PJM Interconnection, L.L.C.

Description: § 205(d) Rate Filing: Original ISA, Service Agreement No. 6116; Queue No. AE1-129 to be effective 7/12/2021.

Filed Date: 8/10/21.

Accession Number: 20210810-5126.

Comment Date: 5 pm ET 8/31/21.

Take notice that the Commission received the following qualifying facility filings:

Docket Numbers: QF21-1117-000.

Applicants: Tillamook Biogas, LLC.

Description: Form 556 of Tillamook Biogas, LLC.

Filed Date: 8/9/21.

Accession Number: 20210809-5195.

Comment Date: 5 pm ET 8/31/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 10, 2021.
Debbie-Anne A. Reese,
Deputy Secretary.

[FR Doc. 2021-17488 Filed 8-13-21; 8:45 am]

BILLING CODE 6717-01-P